DEPARTMENT OF COMMERCE

National Oceanic and Atmospheric Administration

Proposed Information Collection; Comment Request; Scale and Catch Weighing Requirements

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 12, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, 907-586-7008 or patsy.bearden@noaa.gov.

SUPPLEMENTARY INFORMATION:

I. Abstract

The NOAA Fisheries, Alaska Region, catch-weighing and catch monitoring procedures were extended to the Bering Sea/Aleutian Islands (BSAI) King and Tanner Crabs. In addition, this information collection is revised to add a new form for automatic hopper scale tests. This collection describes equipment and operational requirements, consisting of: Scales used to weigh catch at sea; scales approved by the State of Alaska; observer sampling station; inshore catch monitoring and control plan; and crab catch monitoring plan.

II. Method of Collection

Forms are available in both electronic and paper format and may be emailed or faxed.

III. Data

OMB Number: 0648-0330.

Form Number: None.

Type of Review: Regular submission.

Affected Public: Business or for-profit organizations; individuals or households.

Estimated Number of Respondents: 90.

Estimated Time Per Response: 6 minutes for at-sea inspection request; 45 minutes for Record of daily scale tests; 45 minutes for printed output of at-sea scale weight; 45 minutes for printed output of State of Alaska scale weight; 63 hours for scale type evaluation; 6 minutes for at-sea scale approval report/sticker; 6 minutes for application to inspect scales on behalf of NMFS; 2 hours for observer sampling station inspection request; 5 minutes for inspection request for inshore catch monitoring and control plan (CMCP); 40 hours for inshore processors CMCP; 8 hours for CMCP addendum; 5 minutes for notification of observer offloading schedule for BSAI pollock; 2 minutes for prior notice to observers of scale tests; and 40 hours for crab catch monitoring plan.

Estimated Total Annual Burden Hours: 10,032.

Estimated Total Annual Cost to Public: $15,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 6, 2005.
Gwellnar Banks,
Management Analyst, Office of the Chief Information Officer.

[FR Doc. 05-11604 Filed 6-10-05; 8:45 am]

BILLING CODE 3510-22-P